DEPARTMENT OF TRANSPORTATION

Federal Highway Administration

Notice of Final Federal Agency Actions on Proposed Highway in Illinois

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to a proposed highway project, U.S. Route 20, Galena to Freeport in JoDaviess and Stephenson Counties, State of Illinois. Those actions grant licenses, permits, and approvals for the project.

DATES: By this notice, the FHWA is advising the public of final agency actions subject to 23 U.S.C. 139(l)(1). A claim seeking judicial review of the Federal agency actions on the highway project will be barred unless the claim is filed on or before October 10, 2006. If the Federal law that authorizes judicial review of a claim provides a time period of less than 180 days for filing such claim, then that shorter time period still applies.

FOR FURTHER INFORMATION CONTACT: Mr. Norman R. Stoner, Division Administrator, Federal Highway Administration, 3250 Executive Park Drive, Springfield, Illinois 62703-4514; Office Hours: 7:30 a.m.-4:15 p.m.; Telephone: (217) 492-4640; E-mail Address: Norman.Stoner@fhwa.dot.gov. You may also contact Mr. Gregory L. Mounts, Illinois Department of Transportation, Deputy Director, Region Two Engineer, 819 Depot Avenue, Dixon, Illinois 61021; Office Hours: 8 a.m.-4:30 p.m.; Telephone: (815) 284-2271; E-mail Address: MountsGL@dot.il.gov.

SUPPLEMENTARY INFORMATION: Notice is hereby given that the FHWA and other Federal agencies have taken final agency actions by issuing licenses, permits, and approvals for the following highway project in the State of Illinois: U.S. Route 20 from Galena to Freeport is a principal route in northwestern Illinois having national, state, regional, and local importance. This corridor is part of the National Highway System. The route has high existing and forecasted traffic volumes including trucks, high crash rates, and substandard capacity and level of service. The Selected Alternative will be a 78.8 km (49.7 mi) long, four-lane freeway with grade separations at all intersecting roadways requiring approximately 1,127 hectares (2,784 acres) of new right-of-way. It will begin northwest of Galena near the existing intersection of IL Route 84 and U.S. Route 20, proceed to the north and east of Galena, south of the Galena Territory, along the north side of Tapley Woods, north of Elizabeth and Woodbine, north of Stockton and south of Lena, and end northwest of Freeport, tying into the western end of the U.S. Route 20 Freeport Bypass. Except for the termini, which tie in along the existing U.S. Route 20, the entire proposed freeway would be on new alignment. The actions by the Federal agencies, and the laws under which such actions were taken, are described in the Final Environmental Impact Statement (FEIS) for the project, approved on November 16, 2004, in the FHWA Record of Decision (ROD) issued on September 22, 2005, and in other documents in the FHWA administrative record. The FEIS, ROD, and other documents in the FHWA administrative record file are available by contacting the FHWA or the Illinois Department of Transportation at the addresses provided above. The FHWA FEIS can be viewed and downloaded from the project Web site at http://www.dot.il.gov/desenv/env/html or hard copies of the FHWA FEIS and the ROD are available upon request.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303].

4. Wildlife: Endangered Species Act [16 U.S.C. 1531-1544 and Section 1536].

5. Historic and Cultural Resources: Section 106 of the National Historic Preservation Act of 1966, as amended [16 U.S.C. 470(f) et seq.].

6. Social and Economic: Civil Rights Act of 1964 [42 U.S.C. 2000(d)-2000(d)(1)]; Farmland Protection Policy Act (FPPA) [7 U.S.C. 4201-4209].

7. Wetlands and Water Resources: Clean Water Act, 33 U.S.C. 1251-1377 (Section 404, Section 401, Section 319).

8. Executive Orders: E.O. 11990 Protection of Wetlands; E.O. 11988 Floodplain Management; E.O. 12898, Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: April 4, 2006.
Norman R. Stoner,
Division Administrator, FWHA, Illinois Division, Springfield, Illinois.

[FR Doc. 06-3374 Filed 4-7-06; 8:45 am]

BILLING CODE 4910-22-M